DEPARTMENT OF COMMERCE

Foreign-Trade Zones Board

[Docket 38-2008]

Foreign-Trade Zone 50 Long Beach, California, Application for Subzone, Michelin North America, Inc. (Tire and Tire Accessories Distribution), San Bernardino, California

An application has been submitted to the Foreign-Trade Zones (FTZ) Board (the Board) by the Port of Harbor Commissioners of the Port of Long Beach, grantee of FTZ 50, requesting special-purpose subzone status for the tire and tire accessories warehouse/distribution facility of Michelin North America, Inc. (Michelin), in San Bernardino, California. The application was submitted pursuant to the Foreign-Trade Zones Act, as amended (19 U.S.C. 81a-81u), and the regulations of the Board (15 CFR part 400). It was formally filed on May 28, 2008.

The proposed subzone facility (37.6 acres, 1 building, 801,000 sq. ft. of enclosed space) is being constructed at 3525 North Mike Daley Drive, San Bernardino, California. The facility will be used for quality control, labeling, marking, warehousing, and distribution of foreign and domestic tires for the U.S. and export markets. None of the activities which Michelin is proposing to perform under zone procedures would constitute manufacturing or processing under the FTZ Board's regulations. The application indicates that FTZ procedures would be used to support Michelin's California-based distribution activity in competition with facilities abroad.

FTZ procedures would exempt Michelin from customs duty payments on foreign products that are re-exported (some 5-10% of shipments). On its domestic shipments, duty payments would be deferred until the products are entered for consumption. The company may also realize certain logistical benefits related to the use of direct delivery and weekly customs entry procedures. The application indicates that the savings from FTZ procedures would help improve the facility's international competitiveness.

In accordance with the Board's regulations, Diane Finver of the FTZ staff is designated examiner to investigate the application and report to the Board.

Public comment is invited from interested parties. Submissions (original and 3 copies) shall be addressed to the Board's Executive Secretary at the address below. The closing period for their receipt is August 4, 2008. Rebuttal comments in response to material submitted during the foregoing period may be submitted during the subsequent 15-day period (to August 18, 2008).

A copy of the application will be available for public inspection at each of the following locations: U.S Department of Commerce Export Assistance Center, 11150 West Olympic Boulevard, Suite 975, Los Angeles, CA 90064; and, Office of the Executive Secretary, Foreign-Trade Zones Board, Room 2111, U.S. Department of Commerce, 1401 Constitution Avenue, NW, Washington, D.C. 20230-0002.

For further information, contact Diane Finver at Diane_Finver@ita.doc.gov or (202) 482-1367.

Dated: May 28, 2008.
Pierre V. Duy,
Acting Executive Secretary.

[FR Doc. E8-12487 Filed 6-3-08; 8:45 am]

BILLING CODE 3510-DS-S